DEPARTMENT OF ENERGY

Federal Energy Regulatory Commission

[Docket No. CP95-778-003]

Southern Natural Gas Company; Notice of Proposed Tariff Changes

June 16, 2000.

Take notice that on June 8, 2000, Southern Natural Gas Company (Southern) tendered for filing with the Commission Second Revised Sheet No. 839 which cancels Rate Schedule X-73 to its FERC Gas Tariff, Original No. 2. Southern states that Rate Schedule X-73 contained a transportation and exchange agreement dated September 4, 1979, as amended, between Southern, Columbia Gulf Transmission Company and Columbia Gas Transmission Company. Southern requests that this sheet be effective April 9, 1996, the date of the Commission's order approving the abandonment of the transportation and exchange agreement.

Southern states that this filing is being made in compliance with Part 154 of the Commission's Regulations under the Natural Gas Act.

Southern states that a copy of this filing has been served on the official service list compiled by the Secretary in this proceeding.

Any person desiring to be heard or to protest said filing should file a motion to intervene or a protest with the Federal Energy Regulatory Commission, 888 First Street, NE, Washington, DC 20426, in accordance with Sections 385.214 or 385.211 of the Commission's Rules and Regulations. All such motions or protests must be filed on or before June 26, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-15732 Filed 6-21-00; 8:45 am]

BILLING CODE 6717-01-M